FEDERAL COMMUNICATIONS COMMISSION

47 CFR Part 73

[DA 03-1157; MM Docket No. 01-216; RM-10223, RM-10495, RM-10496]

Radio Broadcasting Services; Valliant, OK, and Gainesville, TX

AGENCY: Federal Communications Commission.

ACTION: Final rule.

SUMMARY: In response to a Notice of Proposed Rule Making, 66 FR 47433 (September 12, 2001) this Report and Order allots Channel 234C3 to Valliant, Oklahoma, and provides Valliant with its first local aural transmission service. The allotment is restricted to allow the grant of an application filed by Radio One Licenses, L.L.C. to modify the facilities of Station KSOC-FM, Gainesville, Texas. The coordinates for Channel 234C3 at Valliant are 34-01-10 North Latitude and 95-01-10 West Longitude, with a site restriction of 7.3 kilometers (4.5 miles) east of Valliant, Oklahoma.

DATES: Effective June 2, 2003.

FOR FURTHER INFORMATION CONTACT: R. Barthen Gorman, Media Bureau, (202) 418-2180.

SUPPLEMENTARY INFORMATION: This is a synopsis of the Commission's Report and Order, MM Docket No. 01-216, adopted April 17, 2003, and released April 18, 2003. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202 863-2893. Facsimile 202 863-2898, or via e-mail qualexint@aol.com.

List of Subjects in 47 CFR Part 73

Radio, Radio broadcasting.

Part 73 of Title 47 of the Code of Federal Regulations is amended as follows:

PART 73—RADIO BROADCAST SERVICES

1. The authority citation for part 73 read as follows:

Authority: 47 U.S.C. 154, 303, 334, and 336.

§ 73.202 [Amended]

2. Section 73.202(b), the Table of FM Allotments under Oklahoma, is amended by adding Valliant, Channel 234C3.

Federal Communications Commission.
John A. Karousos,
Assistant Chief, Audio Division, Media Bureau.

[FR Doc. 03-10950 Filed 5-2-03; 8:45 am]

BILLING CODE 6712-01-P